DEPARTMENT OF LABOR

Occupational Safety and Health Administration

[Docket No. NRTL-2-93]

Entela, Inc., Application for Renewal of Recognition

AGENCY: Occupational Safety and Health Administration (OSHA), Labor.

ACTION: Notice.

SUMMARY: This notice announces the application of Entela, Inc., for renewal of its recognition as a Nationally Recognized Testing Laboratory (NRTL) under 29 CFR 1910.7, and presents the Agency's preliminary finding. This preliminary finding does not constitute an interim or temporary approval of this application.

DATES: Comments submitted by interested parties, or any request for extension of the time to comment, must be received no later than April 2, 2001.

ADDRESSES: Submit written comments concerning this notice to: Docket Office, Docket NRTL-2-93, U.S. Department of Labor, Occupational Safety and Health Administration, Room N2625, 200 Constitution Avenue, NW., Washington, DC 20210; telephone: (202) 693-2350. Commenters may transmit written comments of 10 pages or less in length by facsimile to (202) 693-1648. Submit request for extensions concerning this notice to: Office of Technical Programs and Coordination Activities, NRTL Program, Occupational Safety and Health Administration, U.S. Department of Labor, Room N3653, 200 Constitution Avenue, NW., Washington, DC 20210.

FOR FURTHER INFORMATION CONTACT: Bernard Pasquet, Office of Technical Programs and Coordination Activities, NRTL Program, Room N3653 at the above address, or phone (202) 693-2110.

SUPPLEMENTARY INFORMATION:

Notice of Application

The Occupational Safety and Health Administration (OSHA) hereby gives notice that Entela, Inc. (ENT), has applied for renewal of its current recognition as a Nationally Recognized Testing Laboratory (NRTL). ENT requests renewal for its existing scope of recognition.

OSHA recognition of an NRTL signifies that the organization has met the legal requirements in § 1910.7 of Title 29, Code of Federal Regulations (29 CFR 1910.7). Recognition is an acknowledgment that the organization can perform independent safety testing and certification of the specific products covered within its scope of recognition, and is not a delegation or grant of government authority. As a result of recognition, OSHA can accept products “properly certified” by the NRTL. OSHA processes applications related to an NRTL's recognition following requirements in Appendix A to 29 CFR 1910.7. This appendix requires that the Agency publish this public notice of the preliminary finding on an application.

The most recent notices published by OSHA for ENT's recognition covered an expansion of recognition for additional test standards, which OSHA announced on November 10, 1998 (63 FR 63084), and granted on March 9, 1999 (64 FR 11501). The following is a chronology of the other Federal Register notices published by OSHA concerning Entela's recognition, all of which involved an expansion of recognition for additional sites, standards, or programs: a request announced on February 21, 1997 (62 FR 8041), and granted on May 22, 1997 (62 FR 28066); and a request announced on April 17, 1998 (63 FR 19275), and granted on July 10, 1998 (63 FR 37416). OSHA also published a correction of recognition on July 13, 1999 (64 FR 37815).

The current addresses of the testing facilities (sites) that OSHA recognizes for ENT are:

Entela, Inc., 3033 Madison, S.E., Grand Rapids, Michigan 49548

Entela Taiwan Laboratories, 3F No. 260 262 Wen, Lin North Road, Pei Tou, Taipei, Taiwan.

General Background on the Applicant and the Application

Entela, Inc., was originally founded in 1974 as a Michigan Corporation specializing in structural steel inspection. In 1981, equipment and personnel were added to initiate an in-house materials laboratory. This was followed by a formation of certification programs within Entela, Inc. The original company was founded as Entel Engineering Services.

Entela received its recognition as an NRTL on July 26, 1994 (59 FR 37997), for a period of five years ending July 26, 1999. Appendix A to 29 CFR 1910.7 stipulates that the period of recognition of an NRTL is five years and that an NRTL may renew its recognition by applying not less than nine months, nor more than one year, before the expiration date of its current recognition. Entela submitted a request to renew its recognition on, August 10, 1998 (see Exhibit 15), within the time allotted, and retains its recognition pending OSHA's final decision in this renewal process.

ENT's request covers only renewal of its existing scope of recognition, which includes the facilities listed above, and 148 test standards and 8 supplemental programs.

Test Standards

ENT seeks renewal of its recognition for testing and certification of products to demonstrate compliance to the following 148 test standards, all of which OSHA has determined are appropriate, within the meaning of 29 CFR 1910.7(c). OSHA's recognition of ENT, or any NRTL, for a particular test standard is limited to equipment or materials (i.e., products) for which OSHA standards require third party testing and certification before use in the workplace. As a result, OSHA's recognition of an NRTL for a test standard excludes any product(s), falling within the scope of the test standard, for which OSHA has no such requirements.

UL 22 Amusement and Gaming Machines

UL 45 Portable Electric Tools

UL 48 Electric Signs

UL 50 Electric Cabinets and Boxes

UL 67 Electric Panelboards

UL 73 Motor-Operated Appliances

UL 82 Electric Gardening Appliances

UL 94* Tests for Flammability of Plastic Materials for Parts in Devices and Appliances

UL 98 Enclosed and Dead-Front Switches

UL 122 Photographic Equipment

UL 130 Electric Heating Pads

UL 141 Garment Finishing Appliances

UL 153 Portable Electric Lamps

UL 174 Household Electric Storage-Tank Water Heaters

UL 187 X-Ray Equipment

UL 197 Commercial Electric Cooking Appliances

UL 213 Rubber Gasketed Fittings for Fire Protection Service

UL 244A Solid State Controls for Appliances

UL 250 Household Refrigerators and Freezers

UL 298 Portable Electric Hand Lamps

UL 325 Door, Drapery, Louver, and Window Operators and Systems

UL 353 Limit Controls

UL 355 Cord Reels

UL 429 Electrically Operated Valves

UL 467 Grounding and Bonding Equipment

UL 469 Musical Instruments and Accessories

UL 471 Commercial Refrigerators and Freezers

UL 482 Portable Sun/Heat Lamps

UL 484 Room Air Conditioners

UL 496 Edison-Base Lampholders

UL 499 Electric Heating Appliances

UL 506 Specialty Transformers

UL 507 Electric Fans

UL 508** Electric Industrial Control Equipment

UL 541 Refrigerated Vending Machines

UL 542 Lampholders, Starters, and Starter Holders for Fluorescent Lamps

UL 544 Electric Medical and Dental Equipment

UL 563 Ice Makers

UL 609 Local Burglar-Alarm Units and Systems

UL 696 Electric Toys

UL 745-1 Portable Electric Tools

UL 745-2-1 Drills

UL 745-2-2 Screwdrivers and Impact Wrenches

UL 745-2-3 Grinders, Polishers and Disk-type Sanders

UL 745-2-4 Sanders

UL 745-2-5 Circular Saws and Circular Knives

UL 745-2-6 Hammers

UL 745-2-8 Shears and Nibblers

UL 745-2-9 Tappers

UL 745-2-11 Reciprocating Saws

UL 745-2-12 Concrete Vibrators

UL 745-2-14 Planers

UL 745-2-17 Routers and Trimmers

UL 745-2-30 Staplers

UL 745-2-31 Diamond Core Drills

UL 745-2-32 Magnetic Drill Press

UL 745-2-33 Portable Bandsaws

UL 745-2-34 Strapping Tools

UL 745-2-35 Drain Cleaners

UL 745-2-36 Hand Motor Tools

UL 745-2-37 Plate Joiners

UL 749 Household Dishwashers

UL 751 Vending Machines

UL 756 Coin and Currency Changers and Actuators

UL 763 Motor Operated Commercial Food Preparing Machines

UL 778 Motor-Operated Water Pumps

UL 796 Printed-Wiring Boards

UL 813 Commercial Audio Equipment

UL 817 Cord Sets & Power-Supply Cords

UL 826 Household Electric Clocks

UL 858 Household Electric Ranges

UL 859 Household Electric Personal Grooming Appliances

UL 863 Time-Indicating and Recording Appliance

UL 867 Electrostatic Air Cleaners

UL 869A Reference Standard for Service Equipment

UL 873 Temperature-Indicating and Regulating Equipment

UL 916 Energy Management Equipment

UL 917 Clock Operated Switches

UL 921 Commercial Electric Dishwashers

UL 923 Microwave Cooking Appliances

UL 924 Emergency Lighting and Power Equipment

UL 935 Fluorescent-Lamp Ballasts

UL 961 Electric Hobby and Sports Equipment

UL 969 Marking and Labeling Systems

UL 982 Motor Operated Household Food Preparing Machines

UL 984 Hermetic Refrigerant Motor-Compressors

UL 987 Stationary and Fixed Electric Tools

UL 998 Humidifiers

UL 1004*** Electric Motors

UL 1005 Electric Flatirons

UL 1008 Transfer Switch Equipment

UL 1012 Power Units Other Than Class 2

UL 1018 Electric Aquarium Equipment

UL 1026 Electric Household Cooking and Food-Serving Equipment

UL 1028 Hair Clipping and Shaving Appliances

UL 1029 High-Intensity Discharge Lamp Ballasts

UL 1042 Electric Baseboard Heating Equipment

UL 1069 Hospital Signaling and Nurse-Call System

UL 1082 Household Electric Coffee Makers and Brewing-Type Appliances

UL 1083 Household Electric Skillets and Frying Type Appliances

UL 1086 Household Trash Compactors

UL 1088 Temporary Lighting Strings

UL 1206 Electric Commercial Clothes Washing Machines

UL 1230 Amateur Movie Lights

UL 1236 Battery Chargers for Charging Engine-Starter Batteries

UL 1244 Electrical and Electronic Measuring and Testing Equipment

UL 1261 Electric Water Heaters for Pools and Tubs

UL 1262 Laboratory Equipment

UL 1270 Radio Receivers, Audio Systems, and Accessories

UL 1286 Office Furnishings

UL 1310 Class 2 Power Units

UL 1410 Television Receivers and High-Voltage Video Products

UL 1418 Cathode-Ray Tubes

UL 1431 Personal Hygiene and Health Care Appliances

UL 1433 Control Centers for Changing Message Type Electric Signs

UL 1445 Electric Water Bed Heaters

UL 1447 Electric Lawn Mowers

UL 1448 Electric Hedge Trimmers

UL 1459 Telephone Equipment

UL 1472 Solid-State Dimming Controls

UL 1492 Audio-Video Products & Accessories

UL 1564 Industrial Battery Chargers

UL 1570 Fluorescent Lighting Fixtures

UL 1571 Incandescent Lighting Fixtures

UL 1572 High Intensity Discharge Lighting Fixtures

UL 1573 Stage and Studio Lighting Units

UL 1574 Track Lighting Systems

UL 1585 Class 2 and Class 3 Transformers

UL 1594 Sewing and Cutting Machines

UL 1638 Visual Signaling Appliances

UL 1647 Motor-Operated Massage and Exercise Machines

UL 1727 Commercial Electric Personal Grooming Appliances

UL 1786 Nightlights

UL 1838 Low Voltage Landscape Lighting Systems

UL 1950 Information Technology Equipment Including Electrical Business Equipment

UL 1993 Self-Ballasted Lamps and Lamp Adapters

UL 2044 Commercial Closed Circuit Television Equipment

UL 2157 Electric Clothes Washing Machines and Extractors

UL 2161 Neon Transformers and Power Supplies

UL 2601-1 Medical Electrical Equipment, Part 1: General Requirements for Safety

UL 3044 Surveillance Closed Circuit Television Equipment

UL 3101-1 Electric Equipment for Laboratory Use, Part 1, General

UL 3111-1 Electrical Measuring and Test Equipment, Part 1: General

UL 6500 Audio/Video and Musical Instrument Apparatus for Household, Commercial, and Similar General Use

UL 8730-1 Electrical Controls for Household and Similar Use; Part 1: General Requirements

UL 8730-2-3 Automatic Electrical Controls for Household and Similar Use; Part 2: Particular Requirements for Thermal Motor Protectors for Ballasts for Tubular Fluorescent Lamps

UL 8730-2-4 Automatic Electrical Controls for Household and Similar Use; Part 2: Particular Requirements for Thermal Motor Protectors for Motor Compressors or Hermetic and Semi-Hermetic Type

UL 8730-2-8 Automatic Electrical Controls for Household and Similar Use; Part 2: Particular Requirements for Electrically Operated Water Valves

* Exclusive of radiant panel testing.

** Limited to equipment of no greater than 500 amperes.

*** Limited to motors rated no greater than one-half horsepower.

Note: Testing and certification of gas operated equipment is limited to equipment for use with “liquefied petroleum gas” (“LPG” or “LP-Gas”).

The designations and titles of the above test standards were current at the time of the preparation of this notice.

Many of the Underwriters Laboratories (UL) test standards listed above are approved as American National Standards by the American National Standards Institute (ANSI). However, for convenience in compiling the list, we show the designation of the standards developing organization (e.g., UL 22) for the standard, as opposed to the ANSI designation (e.g., ANSI/UL 22). Under our procedures, an NRTL recognized for an ANSI approved test standard may use either the latest proprietary version of the test standard or the latest ANSI version of that standard, regardless of whether it is currently recognized for the proprietary or ANSI version. Contact ANSI or the ANSI web site to find out whether or not a standard is currently ANSI approved.

Programs and Procedures

ENT's renewal also covers use of the supplemental programs listed below, based upon the criteria detailed in the March 9, 1995 Federal Register notice (60 FR 12980, 3/9/95). This notice lists nine (9) programs and procedures (collectively, programs), eight of which (called supplemental programs) an NRTL may use to control and audit, but not actually to generate, the data relied upon for product certification. An NRTL's initial recognition will always include the first or basic program, which requires that all product testing and evaluation be performed in-house by the NRTL that will certify the product. OSHA previously granted ENT recognition to use these programs, which are listed in OSHA's informational web page on the ENT recognition.

Program 2: Acceptance of testing data from independent organizations, other than NRTLs.

Program 3: Acceptance of product evaluations from independent organizations, other than NRTLs.

Program 4: Acceptance of witnessed testing data.

Program 5: Acceptance of testing data from non-independent organizations.

Program 6: Acceptance of evaluation data from non-independent organizations (requiring NRTL review prior to marketing).

Program 7: Acceptance of continued certification following minor modifications by the client.

Program 8: Acceptance of product evaluations from organizations that function as part of the International Electrotechnical Commission Certification Body (IEC-CB) Scheme.

Program 9: Acceptance of services other than testing or evaluation performed by subcontractors or agents.

OSHA developed the program descriptions to limit how an NRTL may perform certain aspects of its work and to accept the activities covered under a program only when the NRTL meets certain criteria. In this sense, they are special conditions that the Agency places on an NRTL's recognition. OSHA does not consider these programs in determining whether an NRTL meets the requirements for recognition under 29 CFR 1910.7. However, OSHA does treat these programs as one of the three elements that defines an NRTL's scope of recognition.

Limitations on the Recognition

The following limitations currently apply to the recognition of the Taiwan facility, and would continue to apply for the renewal:

a. The Taiwan facility shall be limited to carrying out minor mechanical and electrical testing of instruments and small appliances.

b. Performance of inspections shall be limited to Entela personnel.

Preliminary Finding on the Application

ENT has submitted an acceptable request for renewal of its recognition as an NRTL. While processing this request, OSHA performed on-site reviews (audits) of ENT's NRTL testing facilities. Entela has addressed the discrepancies noted by the auditors following the review. NRTL Program assessment staff reviewed information from these reviews and, in a memo dated October 6, 2000 (see Exhibit 20), recommended the renewal of ENT's recognition.

Following a review of the application file, the assessor's memo, and other pertinent documents, the NRTL Program staff has concluded that OSHA can grant to ENT the renewal of its recognition as an NRTL to use the facilities, test standards, and programs listed above. The staff therefore recommended to the Assistant Secretary that the application be preliminarily approved.

Based upon the recommendation of the staff, the Assistant Secretary has made a preliminary finding that Entela, Inc., can meet the recognition requirements as prescribed by 29 CFR 1910.7 for the renewal of its recognition. This preliminary finding does not constitute an interim or temporary approval of the application for Entela.

OSHA welcomes public comments, in sufficient detail, as to whether ENT has met the requirements of 29 CFR 1910.7 for renewal of its recognition as a Nationally Recognized Testing Laboratory. Your comment should consist of pertinent written documents and exhibits. To consider it, OSHA must receive the comment at the address provided above (see ADDRESSES) no later than the last date for comments (see DATES above). Should you need more time to comment, OSHA must receive your written request for extension at the address provided above (also see ADDRESSES) no later than the last date for comments (also see DATES above). You must include your reason(s) for any request for extension. OSHA will limit an extension to 30 days, unless the requester justifies a longer period. We may deny a request for extension if it is frivolous or otherwise unwarranted. You may obtain or review copies of ENT's requests, the memo on the recommendation, and all submitted comments, as received, by contacting the Docket Office, Room N2625, Occupational Safety and Health Administration, U.S. Department of Labor, at the above address. You should refer to Docket No. NRTL-2-93, the permanent record of public information on ENT's recognition.

The NRTL Program staff will review all timely comments and, after resolution of issues raised by these comments, will recommend whether to grant ENT's application for renewal of recognition. The Assistant Secretary will make the final decision on granting the renewal and, in making this decision, may undertake other proceedings that are prescribed in Appendix A to 29 CFR 1910.7. OSHA will publish a public notice of this final decision in the Federal Register.

Signed at Washington, DC, this 2d day of March, 2001.
R. Davis Layne,
Acting Assistant Secretary.

[FR Doc. 01-6563 Filed 3-15-01; 8:45 am]

BILLING CODE 4510-26-P